DEPARTMENT OF COMMERCE

National Oceanic and Atmospheric Administration

RIN 0648-XD983

Final NOAA Restoration Center Programmatic Environmental Impact Statement

AGENCY: National Marine Fisheries Service (NMFS), National Oceanic and Atmospheric Administration (NOAA), Commerce.

ACTION: Notice of availability of a Final Programmatic Environmental Impact Statement.

SUMMARY: The National Marine Fisheries Service is providing notice that the Final NOAA Restoration Center (RC) Programmatic Environmental Impact Statement (PEIS) is complete and available. The NOAA RC proposes to fund or otherwise implement habitat restoration activities through its existing programmatic framework and related procedures. The NOAA RC programs, which are authorized to conserve and manage coastal and marine resources, will support, fund, or otherwise implement habitat restoration activities throughout the coastal United States.

NOAA RC identified a suite of appropriate restoration approaches that it believes will most effectively conserve and restore the coastal and marine resources, and the ecosystem services they provide under NOAA trusteeship. The PEIS evaluates the potential impacts to the human and natural environment of implementing these approaches and sets the stage so that future decisions by NOAA at the project-specific level can be documented as included under, or effectively tiered from, this programmatic analysis.

ADDRESSES: Frederick C. Sutter, Director, Office of Habitat Conservation, National Oceanic and Atmospheric Administration, 1315 East-West Highway, Silver Spring, MD 20910.

FOR FURTHER INFORMATION CONTACT: Melanie Gange, by mail at NOAA Restoration Center/FHC3, 1315 East-West Highway, Silver Spring, MD 20910; or by telephone at 301-427-8664.

SUPPLEMENTARY INFORMATION: Although NOAA RC is not soliciting comments on this PEIS, we will consider any comments submitted that would assist us in preparing future NEPA documents. An electronic copy of the PEIS is available at: http://www.restoration.noaa.gov/environmentalcompliance. Electronic correspondence regarding it can be submitted to rc.compliance@noaa.gov. Otherwise, please submit any written comments via U.S. mail to the responsible official named in the ADDRESSES section.

Dated: June 9, 2015.
Frederick C. Sutter,
Director, Office of Habitat Conservation, National Marine Fisheries Service.

[FR Doc. 2015-14984 Filed 6-18-15; 8:45 am]

BILLING CODE 3510-22-P